DEPARTMENT OF TRANSPORTATION

Federal Aviation Administration

14 CFR Part 39

[Docket No. FAA-2006-24517; Directorate Identifier 2006-NE-18-AD; Amendment 39-14591; AD 2006-10-07]

RIN 2120-AA64

Airworthiness Directives; Hamilton Sundstrand Model 14RF-9 Propellers

AGENCY: Federal Aviation Administration (FAA), Department of Transportation (DOT).

ACTION: Final rule; request for comments.

SUMMARY: The FAA is adopting a new airworthiness directive (AD) for Hamilton Sundstrand model 14RF-9 propellers. This AD requires visual, feeler gage, and tap test inspections of certain serial number (SN) propeller blades of the “+E” repair configuration for blade delamination, and removing the blade from service if the blade fails inspection. This AD also requires removing those serial-numbered propeller blades from service by March 1, 2007. This AD results from reports of delaminated blade fiberglass repair patches that allowed corrosion to form on the aluminum blade spar under the patch. We are issuing this AD to prevent blade failure that could result in separation of a propeller blade and loss of control of the airplane.

DATES: This AD becomes effective May 22, 2006. The Director of the Federal Register approved the incorporation by reference of certain publications listed in the regulations as of May 22, 2006.

We must receive any comments on this AD by July 11, 2006.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For the service information identified in this AD, contact the Hamilton Sundstrand Propeller Technical Team, One Hamilton Road, Mail Stop 1-3-AB43, Windsor Locks, CT 06096-1010; fax 1-860-654-5107.

FOR FURTHER INFORMATION CONTACT: Frank Walsh, Aerospace Engineer, Boston Aircraft Certification Office, FAA, Engine & Propeller Directorate, 12 New England Executive Park, Burlington, MA 01803; telephone (781) 238-7158; fax (781) 238-7170.

SUPPLEMENTARY INFORMATION: In March 2006, we became aware of reports of 263 Hamilton Sundstrand model 14RF-9 “+E” repair configuration propeller blades with delaminated blade fiberglass repair patches. The delamination allows corrosion to form on the aluminum blade spar under the patch. The repairs were done using Hamilton Sundstrand Alert Service Bulletin (ASB) No. 14RF-9-61-A92 and marked with the “+E” repair configuration. The repairs done using Hamilton Sundstrand ASB No. 14RF-9-61-A92 were limited to blades with SNs below SN 885751. Blades of the “+E” repair configuration with SNs below 885751, are susceptible to delamination and corrosion.

Hamilton Sundstrand issued the following ASBs:

• ASB No. 14RF-9-61-A143, dated November 21, 2005.

• ASB No. 14RF-9-61-A143, Revision 1, dated December 5, 2005.

• ASB No. 14RF-9-61-A144, dated February 27, 2006.

• ASB No. 14RF-9-61-A145, dated April 13, 2006.

• ASB No. 14RF-9-61-A146, dated April 3, 2006.

Those ASBs define the affected blade population, describe procedures for inspecting the blades, and define requirements for removing the blade. Hamilton Sundstrand recently reported to us that not all operators have complied with the accomplishment instructions in the first three listed ASBs. Based on a continuing operational safety assessment, Hamilton Sundstrand determined that two visual, feeler gage, and tap test inspections must be performed on the affected blades. The affected blades that pass the two visual, feeler gage, and tap test inspections may remain in service until March 1, 2007.

Also, Hamilton Sundstrand issued ASB No. 14RF-9-61-A 147, dated April 19, 2006, to introduce a blade repair upgrade to a “+E2” repair configuration for return to service. The “+E2” repair configuration is not affected by this AD.

Continued operation with a delaminated blade and corrosion on the aluminum blade spar can lead to blade fracture. This condition, if not corrected, could result in blade failure that could result in separation of a propeller blade and loss of control of the airplane.

Relevant Service Information

We have reviewed and approved the technical contents of Hamilton Sundstrand ASB No. 14RF-9-61-A145, dated April 13, 2006. That ASB defines the affected blade population, describes procedures for inspecting blades for delamination, and defines blade removal requirements.

We have also reviewed and approved ASB No. 14RF-9-61-A146, dated April 3, 2006. That ASB describes procedures for inspecting blades for delamination that were not in service during the initial compliance period of ASBs No. 14RF-9-61-A143, dated November 21, 2005, and ASB No. 14RF-9-61-A143, Revision 1, dated December 5, 2005.

We have also reviewed and approved the technical contents of Hamilton Sundstrand ASB No. 14RF-9-61-A147, dated April 19, 2006. That ASB defines procedures for removing the “+E” repair configuration blades having SNs below 885751, by March 1, 2007, and references a procedure for upgrading the blades to the “+E2” repair configuration.

FAA's Determination and Requirements of this AD

The unsafe condition described previously is likely to exist or develop on other Hamilton Sundstrand model 14RF-9 propellers with “+E” repair configuration propeller blades. For that reason, we are issuing this AD to prevent blade failure that could result in separation of a propeller blade and loss of control of the airplane. This AD requires inspections of propeller blades of the “+E” repair configuration having SNs below 885751, for blade delamination within 10 flight cycles or 5 days after the effective date of this AD. This AD also requires removal from service if the blade fails inspection, and removal from service by March 1, 2007. You must use the service information described previously to perform the actions required by this AD.

FAA's Determination of the Effective Date

Since an unsafe condition exists that requires the immediate adoption of this AD, we have found that notice and opportunity for public comment before issuing this AD are impracticable. Good cause exists for making this amendment effective in less than 30 days.

Comments Invited

This AD is a final rule that involves requirements affecting flight safety and was not preceded by notice and an opportunity for public comment. We invite you however, to send us any written relevant data, views, or arguments regarding this AD. Send your comments to an address listed under ADDRESSES. Include “AD Docket No. FAA-2006-24517; Directorate Identifier 2006-NE-18-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS web site, anyone can find and read the comments in any of our dockets. This includes the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-10-07 Hamilton Sundstrand (formerly Hamilton Standard Division): Amendment 39-14591. Docket No. FAA-2006-24517; Directorate Identifier 2006-NE-18-AD.

Effective Date

(a) This airworthiness directive (AD) becomes effective May 22, 2006.

Affected ADs

(b) None.

Applicability

(c) This AD applies to Hamilton Sundstrand (formerly Hamilton Standard Division) model 14RF-9 propellers with propeller blades of the “+E” repair configuration (excludes “+E2” repair configuration) having serial numbers (SNs) below 885751. These propellers are installed on, but not limited to, Embraer 120 airplanes.

Unsafe Condition

(d) This AD results from reports of delaminated blade fiberglass repair patches that allowed corrosion to form on the aluminum blade spar under the patch. We are issuing this AD to prevent blade failure that could result in separation of a propeller blade and loss of control of the airplane.

Compliance

(e) You are responsible for having the actions required by this AD performed within the compliance times specified unless the actions have already been done.

Identifying the Blade Repair Configuration

(f) The “+E” blade marking can be found on the blade airfoil or stamped on the blade shank, adjacent to the blade and pin assembly part number.

(g) If the blade is stamped with “+E2” no further action is required.

Initial Inspection of Installed Blades Not Previously Inspected

(h) For installed blades not previously inspected using Hamilton Sundstrand Alert Service Bulletin (ASB) No. 14RF-9-61-A143, dated November 21, 2005; or Revision 1, dated December 5, 2005; or ASB No. 14RF-9-61-A144, dated February 27, 2006; or ASB No. 14RF-9-61-A145, dated April 13, 2006; or ASB No. 14RF-9-61-146, dated April 3, 2006, do the following:

(1) Perform initial visual, feeler gage, and tap test inspections for delamination within 10 flight cycles or 5 days after the effective date of this AD, whichever occurs first.

(2) Use paragraph 3 of the Accomplishment Instructions of Hamilton Sundstrand ASB No. 14RF-9-61-A145, dated April 13, 2006, to do the inspection.

2nd Inspection of Installed Blades

(i) For installed blades that have not been reinspected using Hamilton Sundstrand ASB No. 14RF-9-61-A143, dated November 21, 2005; or Revision 1, dated December 5, 2005; or ASB No. 14RF-9-61-A144, dated February 27, 2006; or ASB No. 14RF-9-61-A145, dated April 13, 2006; or ASB No. 14RF-9-61-A146, dated April 3, 2006, do the following:

(1) Perform a 2nd inspection of installed blades for delamination after accumulating an additional 500 flight cycles or by July 1, 2006, whichever occurs first.

(2) Use paragraph 3 of the Accomplishment Instructions of Hamilton Sundstrand ASB No. 14RF-9-61-A145, dated April 13, 2006, to do the inspection.

Blades Placed in Service After the Effective Date of This AD

(j) For blades being installed after the effective date of this AD that were not previously inspected using Hamilton Sundstrand ASB No. 14RF-9-61-A143, dated November 21, 2005; or Revision 1, dated December 5, 2005; or ASB No. 14RF-9-61-A144, dated February 27, 2006; or ASB No. 14RF-9-61-A145, dated April 13, 2006, do the following:

(1) Before installing the blade, perform initial visual, feeler gage, and tap test inspections for delamination. Use paragraph 3. of the Accomplishment Instructions of Hamilton Sundstrand ASB No. 14RF-9-61-A146, dated April 3, 2006, to do the inspection.

(2) Perform a 2nd inspection for delamination at least 7 days after installing the blade, but no later than 60 days after the initial inspection. Use paragraph 3. of the Accomplishment Instructions of Hamilton Sundstrand ASB No. 14RF-9-61-A146, dated April 3, 2006, to do the inspection.

Blades That Fail Inspection

(k) Before further flight, remove propeller blades from service that fail inspection.

Blade Removal From Service

(l) By March 1, 2007, remove from service all blades of the “+E” repair configuration having SNs below 885751.

(m) After March 1, 2007, do not install any blades of the “+E” repair configuration having SNs below 885751, onto any propeller.

(n) Hamilton Sundstrand ASB No. 14RF-9-61-A147, dated April 19, 2006, contains information on upgrading the removed blades to the “+E2” repair configuration.

Inspection Reporting Requirement

(o) Within 10 days after each blade inspection, record the inspection data on a copy of the data sheet. The data sheet is on page 10 of ASB No. 14RF-9-61-A145, dated April 13, 2006, and ASB No. 14RF-9-61-A146, dated April 3, 2006. Report the inspection data to Hamilton Sundstrand, fax (800) 654-5107, and Boston Aircraft Certification Office, fax (781) 238-7170. The Office of Management and Budget (OMB) approved the reporting requirements and assigned OMB control number 2120-0056.

Alternative Methods of Compliance

(p) The Manager, Boston Aircraft Certification Office, has the authority to approve alternative methods of compliance for this AD if requested using the procedures found in 14 CFR 39.19.

Related Information

(q) Hamilton Sundstrand ASB No. 14RF-9-61—A143, dated November 21, 2005; ASB No. 14RF-9-61-A143, Revision 1, dated December 5, 2005; and ASB No. 14RF-9-61-A144, dated February 27, 2006, pertain to the subject of this AD.

Material Incorporated by Reference

(r) You must use the Hamilton Sundstrand service information specified in Table 1 of this AD to perform the inspections and blade removals required by this AD. The Director of the Federal Register approved the incorporation by reference of this service information in accordance with 5 U.S.C. 552(a) and 1 CFR part 51. Contact the Hamilton Sundstrand Propeller Technical Team, One Hamilton Road, Mail Stop 1-3-AB43, Windsor Locks, CT 06096-1010, USA.; fax 1-860-654-5107, for a copy of this service information. You may review copies at the Docket Management Facility; U.S. Department of Transportation, 400 Seventh Street, SW., Nassif Building, Room PL-401, Washington, DC 20590-0001, on the internet at http://dms.dot.gov, or at the National Archives and Records Administration (NARA). For information on the availability of this material at NARA, call 202-741-6030, or go to: http://www.archives.gov/federal-register/cfr/ibr-locations.html.

Table 1.—Incorporation by Reference
Alert service bulletin No. | Page | Revision | Date
14RF-9-61-A145; Total Pages: 10 | All | Original | April 13, 2006.
14RF-9-61-A146; Total Pages: 10 | All | Original | April 3, 2006.

Issued in Burlington, Massachusetts, on May 5, 2006.
Thomas A. Boudraeu,
Acting Manager, Engine and Propeller Directorate, Aircraft Certification Service.

[FR Doc. 06-4390 Filed 5-11-06; 8:45am]

BILLING CODE 4910-13-P